DEPARTMENT OF LABOR

Office of the Secretary

29 CFR Part 9

Nondisplacement of Qualified Workers Under Certain Contracts; Rescission of Regulations Pursuant to Executive Order 13204

AGENCY: Wage and Hour Division, Employment Standards Administration, Labor.

ACTION: Final rule; rescission of regulations.

SUMMARY: On February 17, 2001, President Bush issued Executive Order 13204, which revoked Executive Order 12933 of October 20, 1994, on nondisplacement of qualified workers under certain federal contracts and directed the Secretary of Labor to promptly rescind the regulations and policies implementing Executive Order 12933. The directive also ordered the termination of all investigations or other compliance actions based on Executive Order 12933. In accordance with this directive, the Department of Labor is issuing a final rule to rescind the regulations on nondisplacement of qualified workers under certain contracts, which were promulgated pursuant to the authority provided by Executive Order 12933.

EFFECTIVE DATE: This rule is effective March 23, 2001.

FOR FURTHER INFORMATION CONTACT: Timothy Helm, Team Leader, Government Contracts Team, Office of Enforcement Policy, Wage and Hour Division, Employment Standards Administration, U.S. Department of Labor, Room S3018, 200 Constitution Avenue NW., Washington, DC 20210; telephone (202) 693-0064. This is not a toll free number.

SUPPLEMENTARY INFORMATION:

I. Paperwork Reduction Act

The information collection requirements contained in Regulations, 29 CFR part 9, were previously approved by the Office of Management and Budget under the Paperwork Reduction Act of 1980 (Pub. L. 96-511) and assigned OMB Control Number 1215-0190.

II. Background

Executive Order 12933 of October 20, 1994—“Nondisplacement of Qualified Workers Under Certain Contracts,” provided that workers on a building service contract for a public building be given the right of first refusal for employment with a successor contractor if they would otherwise lose their jobs as a result of termination of the contract. The implementing regulations, 29 CFR part 9, were promulgated in accordance with the terms of Executive Order 12933 and were published in the Federal Register of May 22, 1997 (62 FR 28176). On February 17, 2001, President Bush signed Executive Order 13204—Revocation of Executive Order on Nondisplacement of Qualified Workers Under Certain Contracts (66 FR 11228; February 22, 2001). Executive Order 13204 directs the Secretary of Labor to terminate any investigations or other compliance actions based on Executive Order 12933, and to “promptly move to rescind any orders, rules, regulations, guidelines, or policies implementing or enforcing Executive Order 12933 of October 20, 1994 * * *.” Since the authority for these regulations no longer exists, the Department for good cause hereby finds that it is unnecessary and impracticable to afford notice and comment procedures on the rescission of the regulations at 29 CFR part 9, and that such rescission should be effective upon publication. As provided in Executive Order 13204, the revocation of Executive Order 12933 and the rescission of these regulations extend to all investigations or other compliance actions based on Executive Order 12933.

Document Preparation

This document was prepared under the direction and control of Thomas M. Markey, Acting Administrator, Wage and Hour Division, Employment Standards Administration, U.S. Department of Labor, pursuant to the delegated authority of Secretary's Order No. 5-96 (62 FR 107, January 2, 1997), and Employment Standards Order No. 97-1, dated April 8, 1997.

List of Subjects in 29 CFR Part 9

Employment, Federal buildings and facilities, Government contracts.

PART 9—[REMOVED]

Accordingly, and under the authority of Executive Order 13204, 66 FR 11228, part 9 of title 29 of the Code of Federal Regulations is hereby removed.

Signed at Washington, D.C. on the 14th day of March, 2001.
Thomas M. Markey,
Acting Administrator, Wage and Hour Division.

[FR Doc. 01-7146 Filed 3-22-01; 8:45 am]

BILLING CODE 4510-27-P